SMALL BUSINESS ADMINISTRATION

[Disaster Declaration #21161 and #21162; Missouri Disaster Number MO-20017]

Administrative Declaration of a Disaster for the State of Missouri

AGENCY: U.S. Small Business Administration.

ACTION: Notice.

SUMMARY: This is a notice of an Administrative declaration of a disaster for the State of Missouri dated June 23, 2025.

Incident: Severe Storms, Tornadoes, Straight-line Winds, Heavy Rains, Large Hail, Flooding, and Flash Flooding.

DATES: Issued on June 23, 2025.

Incident Period: April 29, 2025.

Physical Loan Application Deadline Date: August 22, 2025.

Economic Injury (EIDL) Loan Application Deadline Date: March 23, 2026.

ADDRESSES: Visit the MySBA Loan Portal at https://lending.sba.gov to apply for a disaster assistance loan.

FOR FURTHER INFORMATION CONTACT: Sharon Henderson, Office of Disaster Recovery & Resilience, U.S. Small Business Administration, 409 3rd Street SW, Suite 6050, Washington, DC 20416, (202) 205-6734.

SUPPLEMENTARY INFORMATION: Notice is hereby given as a result of the Administrator's disaster declaration, applications for disaster loans may be submitted online using the MySBA Loan Portal https://lending.sba.gov or other locally announced locations. Please contact the SBA disaster assistance customer service center by email at disastercustomerservice@sba.gov or by phone at 1-800-659-2955 for further assistance.

The following areas have been determined to be adversely affected by the disaster:

Primary Counties: Greene, Lawrence, Newton.

Contiguous Counties:

MISSOURI: Barry, Christian, Dade, Dallas, Jasper, McDonald, Polk, Stone, Webster.

KANSAS: Cherokee.

OKLAHOMA: Ottawa.

The Interest Rates are:

| Percent
For Physical Damage:
Homeowners with Credit Available Elsewhere | 5.625
Homeowners without Credit Available Elsewhere | 2.813
Businesses with Credit Available Elsewhere | 8.000
Businesses without Credit Available Elsewhere | 4.000
Non-Profit Organizations with Credit Available Elsewhere | 3.625
Non-Profit Organizations without Credit Available Elsewhere | 3.625
For Economic Injury:
Business and Small Agricultural Cooperatives without Credit Available Elsewhere | 4.000
Non-Profit Organizations without Credit Available Elsewhere | 3.625

The number assigned to this disaster for physical damage is 21161B and for economic injury is 211620.

The States which received an EIDL Declaration are Kansas, Missouri, Oklahoma.

(Catalog of Federal Domestic Assistance Number 59008)

James Stallings,
Associate Administrator, Office of Disaster Recovery and Resilience.

[FR Doc. 2025-11978 Filed 6-26-25; 8:45 am]

BILLING CODE 8026-09-P